ENVIRONMENTAL PROTECTION AGENCY

40 CFR Part 180

[EPA-HQ-OPP-2014-0397; FRL-9943-79]

Pendimethalin; Tolerance Exemptions; Technical Correction

AGENCY: Environmental Protection Agency (EPA).

ACTION: Final rule; technical correction.

SUMMARY: EPA issued a final rule in the Federal Register of December 21, 2015, concerning the addition of certain commodities to 40 CFR 180.361. Nut, tree group 14-12 was inadvertently omitted. This document corrects that omission.

DATES: This final rule correction is effective March 31, 2016.

ADDRESSES: The docket for this action, identified by docket identification (ID) number EPA-HQ-OPP-2014-0397, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Susan Lewis, Registration Division (7505P), Office of Pesticide Programs, Environmental Protection Agency, 1200 Pennsylvania Ave. NW., Washington, DC 20460-0001; telephone number: (703) 305-7090; email address: RDFRNotices@epa.gov.

SUPPLEMENTARY INFORMATION:

I. Does this action apply to me?

The Agency included in the December 21, 2015 final rule a list of those who may be potentially affected by this action.

II. What does this technical correction do?

EPA issued a final rule in the Federal Register of December 21, 2015 (80 FR 79267) (FRL-9937-18) that was adding commodities including Nut, tree group 14-12 to 40 CFR 180.361(a)(1). EPA inadvertently omitted the language in the codified text, which would have added Nut, tree group.

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this technical correction final without prior proposal and opportunity for comment, because this is correcting a typographical error. EPA finds that this constitutes good cause under 5 U.S.C. 553(b)(3)(B).

IV. Do any of the statutory and executive order reviews apply to this action?

No. For a detailed discussion concerning the statutory and executive order review, refer to Unit VI of the December 21, 2015 final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: March 24, 2016.
Daniel J. Rosenblatt,
Acting Director, Registration Division, Office of Pesticide Programs.

Therefore, 40 CFR part 180 is corrected as follows:

PART 180—[AMENDED]

1. The authority citation for part 180 continues to read as follows:

Authority: 21 U.S.C. 321(q), 346a and 371.

2. In § 180.361(a)(1), add alphabetically the entry Nut, tree, group 14-12 to read as follows:

§ 180.361 Pendimethalin; tolerances for residues.

(a) * * *

(1) * * *

Commodity | Parts per million
* * * * *
Nut, tree, group 14-12 | 0.10
* * * * *

* * * * *

[FR Doc. 2016-07310 Filed 3-30-16; 8:45 am]

BILLING CODE 6560-50-P